FEDERAL COMMUNICATIONS COMMISSION

47 CFR Parts 2, 73, 74, 80, 90, and 97

[ET Docket No. 02-16; FCC 03-39]

Below 28 MHz

AGENCY: Federal Communications Commission.

ACTION: Final rule; correction.

SUMMARY: On May 13, 2003 (68 FR 25512), the Commission published final rules in the Report and Order, which amended the rules to implement domestically various allocation decisions from ITU World Radiocommunication Conferences. This document contains a correction to § 90.35(c)(82), which was inadvertently added.

DATES: Effective June 12, 2003.

FOR FURTHER INFORMATION CONTACT: Shameeka Parrott, Office of Engineering and Technology, (202) 418-2062, e-mail: Shameeka.Parrott@fcc.gov.

SUPPLEMENTARY INFORMATION: The Federal Communications Commission published a document amending parts 2, 73, 74, 80, 90, and 97 of the Commission's rules in the Federal Register of May 13, 2003 (68 FR 25512). This document corrects the Federal Register as it appeared. In FR Doc. 03-11723, published on May 13, 2003 (68 FR 25512), the Commission is correcting § 90.35(c)(82) with § 90.35(c)(89).

In rule FR Doc. 03-11723 published on May 13, 2003 (68 FR 25512), the Commission is correcting § 90.35(c)(82) to read as § 90.35(c)(89):

On page 25540, in the third column, in amendatory instruction 18.e., paragraph (c)(82) is corrected to read as paragraph (c)(89).

Federal Communications Commission.
Marlene Dortch,
Secretary.

[FR Doc. 03-13583 Filed 5-30-03; 8:45 am]

BILLING CODE 6712-01-P